DEPARTMENT OF THE INTERIOR

National Park Service

[NPS-WASO-NAGPRA-NPS0028044; PPWOCRADN0-PCU00RP14.R50000]

Notice of Inventory Completion: Department of Anthropology, Southern Methodist University, Dallas, TX

AGENCY: National Park Service, Interior.

ACTION: Notice.

SUMMARY: The Department of Anthropology, Southern Methodist University has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology, Southern Methodist University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of Anthropology, Southern Methodist University at the address in this notice by July 15, 2019.

ADDRESSES: B. Sunday Eiselt, Department of Anthropology, Southern Methodist University, 3225 Daniel Avenue, Heroy Hall #450, Dallas, TX 75205, telephone (214) 768-2915, email seiselt@smu.edu.

SUPPLEMENTARY INFORMATION: Notice is here given in accordance with the Native American Graves Protection and Repatriation Act (NAGPRA), 25 U.S.C. 3003, of the completion of an inventory of human remains and associated funerary objects under the control of the Department of Anthropology, Southern Methodist University, Dallas, TX. The human remains and associated funerary objects were removed from site 41CB53, known as the Morgan Jones Site, in Crosby County, TX.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Department of Anthropology, Southern Methodist University professional staff in consultation with representatives of the Comanche Nation, Oklahoma.

History and Description of the Remains

In 1967, human remains representing, at minimum, one individual were removed from the Morgan Jones site (41CB53), in Crosby County, TX. The human remains were found inside a rock shelter; caliche stones covered the mouth of the burial. The individual appears to be a young female, 13-15 years old. The human remains were placed in a flexed position on the right side, facing southwest towards the entrance of the rock shelter. Portions of the skeleton were missing, including the pelvis and most of the vertebrae, due to rodent disturbance. No known individuals were identified. The eight associated funerary objects are one whelk shell axe, three elk-tooth pendants, one brass buckle, one cinch buckle, one lump of blue-green pigment, and one textile. (One iron axe and 3,638 glass beads (403 white seed beads, 3,100 light blue beads, 131 dark blue beads, two green beads, and two donut-shaped beads) associated with this burial are currently missing from the collection. These items were transferred to an unknown location in Austin, TX, in March 1967, and efforts to find them have been unsuccessful.)

The Morgan Jones site dates from A.D. 1790 to the early 1800s, based on the brass cinch buckle found with the burial. According to correspondence from Curtis Tunnell (then the Texas State Archeologist), the brass cinch buckle is of Spanish-Mexican origin, and dates to the early 1800s. The plain brass buckle and axe are English or French. Based on the associated funerary objects, the cultural affiliation is definitively identified as Comanche.

Determinations Made by the Department of Anthropology, Southern Methodist University

Officials of the Department of Anthropology, Southern Methodist University have determined that:

• Pursuant to 25 U.S.C. 3001(9), the human remains described in this notice represent the physical remains of one individual of Native American ancestry.

• Pursuant to 25 U.S.C. 3001(3)(A), the eight objects described in this notice are reasonably believed to have been placed with or near individual human remains at the time of death or later as part of the death rite or ceremony.

• Pursuant to 25 U.S.C. 3001(2), there is a relationship of shared group identity that can be reasonably traced between the Native American human remains and associated funerary objects and the Comanche Nation, Oklahoma.

Additional Requestors and Disposition

Lineal descendants or representatives of any Indian Tribe or Native Hawaiian organization not identified in this notice that wish to request transfer of control of these human remains and associated funerary objects should submit a written request with information in support of the request to B. Sunday Eiselt, Department of Anthropology, Southern Methodist University, 3225 Daniel Avenue, Heroy Hall #450, Dallas, TX 75205, telephone (214) 768-2915, email seiselt@smu.edu, by July 15, 2019. After that date, if no additional requestors have come forward, transfer of control of the human remains and associated funerary objects to the Comanche Nation, Oklahoma may proceed.

The Department of Anthropology, Southern Methodist University is responsible for notifying the Comanche Nation, Oklahoma that this notice has been published.

Dated: May 28, 2019.
Melanie O'Brien,
Manager, National NAGPRA Program.

[FR Doc. 2019-12470 Filed 6-12-19; 8:45 am]

BILLING CODE 4312-52-P